DEPARTMENT OF TRANSPORTATION

Surface Transportation Board

[Docket No. FD 35975]

Central Maine & Quebec Railway US Inc.—Lease and Operate Exemption—State of Maine

Central Maine & Quebec Railway US Inc. (CMQ), a Class III rail carrier, has filed a verified notice of exemption under 49 CFR 1150.41 to lease from the State of Maine Department of Transportation, and to operate approximately 59.42 miles of rail line owned by the State of Maine (the Line). The Line consists of (1) the Brunswick Yard between the east side of Church Road, milepost CPL 15, and Rock Jct., milepost CPL 17; (2) the Rockland Branch between milepost 29.40 at Brunswick Yard in Brunswick and milepost 85.85 in Rockland; and (3) the Atlantic Branch Line between milepost 85.36 and milepost 86.65 in Rockland. The Line runs through Knox, Lincoln, and Sagadahoc Counties, ME.

CMQ will replace Morristown & Erie Railway, Inc. d/b/a Maine Eastern Railroad (MER) as the operator on the Line. Pursuant to 49 CFR 1150.42(b), CMQ states in a filing on November 24, 2015, that it has notified the shippers on the Line of the proposed change in operator.

CMQ certifies that its projected annual revenues as a result of this transaction will not result in the creation of a Class II or Class I rail carrier. Because its annual revenues exceed $5 million, however, CMQ has certified, as required by 49 CFR 1150.42(e), that it posted notice of intent at the workplace of employees in Rockland, ME, and distributed to employees of the MER. CMQ further states that it will offer up to four positions to MER's employees prior to consummation. According to CMQ, the lease does not contain any provision or agreement that may limit future interchange of traffic with a third-party connecting carrier.

The transaction may be consummated on or after December 19, 2015, the effective date of the exemption (30 days after the verified notice of exemption was filed). CMQ states that the proposed schedule for consummation of the transaction is January 1, 2016.

If the verified notice contains false or misleading information, the exemption is void ab initio. Petitions to revoke the exemption under 49 U.S.C. 10502(d) may be filed at any time. The filing of a petition to revoke will not automatically stay the effectiveness of the exemption. Petitions for stay must be filed no later than December 11, 2015 (at least seven days before the exemption becomes effective).

An original and ten copies of all pleadings, referring to Docket No. FD 35975, must be filed with the Surface Transportation Board, 395 E Street SW., Washington, DC 20423-0001. In addition, one copy of each pleading must be served on Louis E. Gitomer, Law Offices of Louis E. Gitomer, 600 Baltimore Ave., Suite 301, Towson, MD 21204.

Board decisions and notices are available on our Web site at www.stb.dot.gov.

Decided: November 27, 2015.
By the Board, Joseph H. Dettmar, Acting Director, Office of Proceedings.
Kenyatta Clay,
Clearance Clerk.

[FR Doc. 2015-30531 Filed 12-3-15; 8:45 am]

BILLING CODE 4915-01-P